COMMISSION ON CIVIL RIGHTS

Agenda and Notice of Public Meeting of the Connecticut Advisory Committee

Notice is hereby given, pursuant to the provisions of the rules and regulations of the U.S. Commission on Civil Rights (Commission), and the Federal Advisory Committee Act (FACA), that a briefing and planning meeting of the Connecticut Advisory Committee to the Commission will be held at the Legislative Building, Hearing Group Room 2C, 210 Capitol Avenue, Hartford, CT, 06106, and will convene at 9 a.m. on Tuesday, September 20, 2011. The purpose of the briefing meeting is to discuss police practices and the changing demographics in Connecticut. The purpose of the planning meeting is to plan future activities.

Members of the public are entitled to submit written comments. The comments must be received in the regional office by Thursday, October 20, 2011. Comments may be mailed to the Eastern Regional Office, U.S. Commission on Civil Rights, 624 9th Street, NW., Suite 740, Washington, DC 20425, fax to (202) 376-7548, or e-mail to ero@usccr.gov. Persons wishing to present their comments verbally at the meeting, should contact Ivy Davis, Director, Eastern Regional Office at (202) 376-7533 (or for the hearing impaired at TDD 800-877-8339).

Hearing-impaired persons who will attend the meeting and require the services of a sign language interpreter should contact the Regional Office at least ten (10) working days before the scheduled date of the meeting.

Records generated from this meeting may be inspected and reproduced at the Eastern Regional Office, as they become available, both before and after the meeting. Persons interested in the work of this advisory committee are advised to go to the Commission's Web site, http://www.usccr.gov, or to contact the Eastern Regional Office at the above e-mail or street address.

The meeting will be conducted pursuant to the provisions of the rules and regulations of the Commission and FACA.

Dated in Washington, DC, August 31, 2011.
Peter Minarik,
Acting Chief, Regional Programs Coordination Unit.

[FR Doc. 2011-22667 Filed 9-2-11; 8:45 am]

BILLING CODE 6335-01-P